DEPARTMENT OF COMMERCE

International Trade Administration

[A-791-815]

Notice of Preliminary Determination of Sales at Less Than Fair Value and Postponement of Final Determination: Ferrovanadium from the Republic of South Africa

AGENCY: Import Administration, International Trade Administration, Department of Commerce.

EFFECTIVE DATE: July 8, 2002.

FOR FURTHER INFORMATION CONTACT: Crystal Crittenden or Mark Manning (Xstrata) at (202) 482-0989 or (202) 482-5253 and Timothy P. Finn or John Conniff (Highveld), at (202) 482-0065 or (202) 482-1009, respectively; AD/CVD Enforcement Office IV, Group II, Import Administration, Room 1870, International Trade Administration, U.S. Department of Commerce, 14th Street and Constitution Avenue, NW., Washington, DC 20230.

SUPPLEMENTARY INFORMATION:

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce (the Department) regulations refer to the regulations codified at 19 CFR part 351 (April 2002).

Preliminary Determination

We preliminarily determine that ferrovanadium from the Republic of South Africa (South Africa) is being sold, or is likely to be sold, in the United States at less than fair value (LTFV), as provided in section 733 of the Act. The estimated margins of sales at LTFV are shown in the Suspension of Liquidation section of this notice.

Case History

The investigation was initiated on December 17, 2001. See Notice of Initiation of Antidumping Duty Investigations: Ferrovanadium from the People's Republic of China and the Republic of South Africa, 66 FR 66398 (December 26, 2001) (Initiation Notice).¹ Since the initiation of the investigation, the following events have occurred.

¹ The petitioners in this case are The Ferroalloys Association Vanadium Committee (TFA Vanadium Committee) and its members: Bear Metallurgical Company, Shieldalloy Metallurgical Corporation, Gulf Chemical & Metallurgical Corporation, U.S. Vanadium Corporation, and CS Metals of Louisiana LLC.

The Department set aside a period for all interested parties to raise issues regarding product coverage. See Initiation Notice, at 66 FR 66398. On January 3, 10, and 17, 2002, the petitioners submitted comments on product coverage. On January 7, 15, and 17, 2002, Highveld Steel and Vanadium Corporation (Highveld) and Xstrata South Africa (Proprietary) Limited (Xstrata) submitted product coverage comments.

On December 27, 2002, the Department solicited comments from interested parties regarding model-matching criteria. See Letter from Holly Kuga (December 27, 2001). The petitioners and respondents submitted model-matching comments to the Department on January 9, 2002. The petitioners also submitted rebuttal model-matching comments on January 10, 2002.

On January 14, 2002, Xstrata submitted comments to the Department regarding the sales below cost investigation the Department initiated on December 17, 2001. The Department received a rebuttal to Xstrata's comments from the petitioners on January 17, 2002. On January 17, 2002, the Department received comments regarding the sales below cost investigation from Highveld.

On January 10, 2002, the United States International Trade Commission (ITC) preliminarily determined that there is a reasonable indication that an industry in the United States is materially injured by reason of imports from South Africa of ferrovanadium that are alleged to be sold in the United States at LTFV. See Ferrovanadium From China and South Africa, 67 FR 2236 (January 16, 2002).

After reviewing the comments on product coverage and characteristics, on January 18, 2002, the Department issued the antidumping duty questionnaire² to Highveld and Xstrata. The Department issued an abridged Section A questionnaire, requesting quantity and value (Q&V) data, to Vametco Minerals Corporation (Vametco) on January 29, 2002, for the purpose of including Vametco in the Department's respondent selection analysis. See Selection of Respondents section below. We received responses to our questionnaire from all respondents. We issued supplemental questionnaires, pertaining to sections A, B, C, and D of the antidumping questionnaire, to Highveld and Xstrata in February, March, April, and May 2002. Highveld and Xstrata responded to these supplemental questionnaires in February, March, April, May, and June 2002. On February 11, 2002, Xstrata provided information demonstrating that the home market was not viable and submitted Q&V data for its largest third-country markets. On March 1, 2002, the Department designated Germany as the appropriate third-country market for which to calculate Xstrata's normal value (NV). See Memorandum from Howard Smith to the File, “The Appropriate Comparison Market for Xstrata South Africa (Proprietary) Limited in the Antidumping Duty Investigation of Ferrovanadium from the Republic of South Africa,” dated March 1, 2002 (Xstrata Third Country Market Selection Memorandum). On March 12 and 15, 2002, the petitioners submitted amendments to the cost allegation contained in the petition for this investigation to include German-specific price and cost information placed on the record by Xstrata. The Department, in accordance with section 773(b)(2)(A)(i) of the Act, concluded that there was a reasonable basis to suspect that Xstrata is selling ferrovanadium in Germany at prices below the cost of production (COP) and initiated a cost investigation on ferrovanadium sales in Germany on March 26, 2002. See the Cost of Production Analysis section below.

² Section A of the questionnaire requests general information concerning a company's corporate structure and business practices, the merchandise under investigation that it sells, and the manner in which it sells that merchandise in all of its markets. Section B requests a complete listing of all home market sales, or, if the home market is not viable, of sales in the most appropriate third-country market (this section is not applicable to respondents in non-market economy (NME) cases). Section C requests a complete listing of U.S. sales. Section D requests information on the COP of the foreign like product and the constructed value of the merchandise under investigation. Section E requests information on further manufacturing.

On April 24, 2002, pursuant to section 733(c)(1)(B) of the Act, the Department postponed the preliminary determination of this investigation 50 days, from May 6, 2002, until June 25, 2002. See Ferrovanadium from the People's Republic of China and the Republic of South Africa: Notice of Postponement of Preliminary Antidumping Duty Determinations; 67 FR 20089 (April 24, 2002).

Postponement of the Final Determination

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioners. The Department's regulations, at 19 CFR 351.210(e)(2), require that requests by respondents for postponement of a final determination be accompanied by a request for an extension of the provisional measures from a four-month period to not more than six months.

On June 21, 2002, Xstrata requested that, in the event of an affirmative preliminary determination in this investigation, the Department postpone its final determination until 135 days after the publication of the preliminary determination. Xstrata also included a request to extend the provisional measures to not more than six months after the publication of the preliminary determination.. Accordingly, since we have made an affirmative preliminary determination, and the requesting party accounts for a significant proportion of exports of the subject merchandise, we have postponed the final determination until not later than 135 days after the date of publication of the preliminary determination, and are extending the provisional measures accordingly. See Xstrata's letter to the Secretary, dated June 21, 2002.

Period of Investigation

The period of investigation (POI) is October 1, 2000, through September 30, 2001. This period corresponds to the four most recent fiscal quarters prior to the month of the filing of the petition (i.e., November 2001). See 19 CFR 351.204(b)(1).

Scope of Investigation

The scope of these investigations covers all ferrovanadium regardless of grade, chemistry, form, shape, or size. Ferrovanadium is an alloy of iron and vanadium that is used chiefly as an additive in the manufacture of steel. The merchandise is commercially and scientifically identified as vanadium. It specifically excludes vanadium additives other than ferrovanadium, such as nitride vanadium, vanadium-aluminum master alloys, vanadium chemicals, vanadium oxides, vanadium waste and scrap, and vanadium-bearing raw materials such as slag, boiler residues and fly ash. Merchandise under the following Harmonized Tariff Schedule of the United States (HTSUS) item numbers 2850.00.2000, 8112.40.3000, and 8112.40.6000 are specifically excluded. Ferrovanadium is classified under HTSUS item number 7202.92.00. Although the HTSUS item number is provided for convenience and Customs purposes, the Department's written description of the scope of this investigation remains dispositive.

Selection of Respondents

Section 777A(c)(1) of the Act directs the Department to calculate individual dumping margins for each known exporter and producer of the subject merchandise. Where it is not practicable to examine all known producers/exporters of subject merchandise, section 777A(c)(2) of the Act permits the Department to investigate either: (1) a sample of exporters, producers, or types of products that is statistically valid based on the information available at the time of selection, or (2) exporters and producers accounting for the largest volume of the subject merchandise from the exporting country that can reasonably be examined. The petition identified three South African producers of ferrovanadium that export to the United States: Highveld, Vametco, and Xstrata. Due to limited resources, we determined that we could investigate only the two South African producers/exporters that accounted for the largest volume of exports to the United States during the POI. See the Memorandum from Howard Smith to Holly A. Kuga, “Selection of Respondents for the Antidumping Investigation of Ferrovanadium from South Africa,” which is on file in the Central Records Unit (CRU), room B-099 of the main Department of Commerce building. Therefore, we designated Highveld and Xstrata as mandatory respondents and sent them the antidumping questionnaire.

Product Comparisons

In accordance with section 771(16) of the Act, all products produced by the respondents in the home market and covered by the description in the Scope of Investigation section, above, and sold in the home market or designated third-country market (i.e., the comparison market) during the POI are considered to be foreign like products for purposes of determining appropriate product comparisons to U.S. sales. We have relied upon product grade and maximum and minimum product size to match U.S. sales of subject merchandise to NV.

Fair Value Comparisons

To determine whether sales of ferrovanadium from South Africa were made in the United States at LTFV, we compared the constructed export price (CEP) to the NV, as described in the Constructed Export Price and Normal Value sections of this notice, below. In accordance with section 777A(d)(1)(A)(i) of the Act, we compared POI weighted-average CEPs to NVs.

Use of Partial Facts Available

During the course of this investigation, the Department issued seven supplemental questionnaires to Highveld requesting that the company provide certain information necessary for our determination. Despite the fact that the Department provided Highveld with repeated opportunities to provide the requested information, Highveld withheld certain information and failed to provide other information in the form and manner requested by the Department. As a result, the Department has determined to use facts available to calculate certain sales adjustments. These adjustments include U.S. commission/indirect selling expenses, home and U.S. market packing costs, U.S. warehousing expenses, and financing expenses associated with U.S. sales.

Furthermore, section 776(b) of the Act provides that the Department may use an inference that is adverse to the interests of a party in selecting from among the facts otherwise available if the Department finds that the party has failed to cooperate by not acting to the best of its ability. In this case the Department has found that Highveld failed to cooperate by not acting to the best of its ability with respect to these sales adjustments. Therefore, for the preliminarily determination, we have made an inference that is adverse to Highveld in selecting from among the facts available to calculate the sales adjustment noted above. For a detailed discussion of this issue, see the Memorandum from Howard Smith to Holly A. Kuga, “Application of Partial Adverse Facts Available for the Preliminary Determination: Highveld Steel & Vanadium Limited,” dated June 25, 2002.

Constructed Export Price

For both Highveld and Xstrata, we calculated CEP, in accordance with section 772(b) of the Act, for all sales to unaffiliated purchasers that took place after importation into the United States. Highveld and Xstrata reported only CEP sales in the United States. In accordance with section 772(c)(2)(A) of the Act, we calculated CEP for all U.S. sales by Highveld and Xstrata on the packed FOB or delivered prices to unaffiliated purchasers in the United States and made deductions from the starting price for movement expenses in accordance with section 772(c)(2)(A) of the Act. Movement expenses included, where appropriate, foreign inland freight, international freight, marine insurance, foreign and U.S. brokerage and handling charges, U.S. customs duties (including harbor maintenance fees and merchandise processing fees), U.S. inland insurance, U.S. inland freight expenses, and warehousing expenses. In accordance with section 772(d)(1) of the Act, we deducted from the starting price those selling expenses associated with economic activities occurring in the United States, including direct and indirect selling expenses. Also, we made an adjustment for CEP profit in accordance with section 772(d)(3) of the Act.

Normal Value

A. Selection of Comparison Market (Third-Country Comparison)

Section 773(a)(1) of the Act directs that NV be based on the price at which the foreign like product is sold in the home market, provided that the merchandise is sold in sufficient quantities (or has sufficient aggregate value, if quantity is inappropriate) and that there is no particular market situation in the home market that prevents a proper comparison with the EP or CEP transaction. The statute contemplates that quantities (or value) will normally be considered insufficient if they are less than five percent of the aggregate quantity (or value) of sales of the subject merchandise to the United States. For this investigation, we found that Highveld had a viable home market for ferrovanadium. Thus, the home market is the appropriate comparison market for Highveld in this investigation, and we used the respondent's submitted home market sales data for purposes of calculating NV.

Xstrata did not have a viable home market in South Africa. Therefore, the Department considered the Q&V of Xstrata's POI sales of subject merchandise in the United States and the three largest third-country markets. In selecting the appropriate comparison market for Xstrata's U.S. sales, we applied the criteria listed in section 351.404(e) of the Department's regulations, which direct the Department to consider the similarity of the foreign like product exported to the third-country market to the subject merchandise exported to the United States; the volume of export sales to the third-country market; and such other factors as the Secretary considers appropriate.

After comparing Xstrata's U.S. market sales with the three third-country market sales of subject merchandise, the Department selected Germany as the appropriate comparison market for Xstrata. See Xstrata Third Country Market Selection Memorandum.

In deriving NV, we made adjustments as detailed in the Calculation of Normal Value Based on Constructed Value section below.

B. Date of Sale

For reporting purposes, Highveld used the last day of the month in which the merchandise was picked up or delivered as the home market date of sale even though it indicated that the sales terms are finalized on the invoice date (see Highveld's April 19, 2002, supplemental at pages 5 and 6). The Department's practice is to consider the invoice date as the date of sale unless a different date better reflects the date on which the material terms of sale are established, or the invoice date is after the shipment date (see Notice of Final Determination of Sales at Less Than Fair Value: Bulk Aspirin From the People's Republic of China, 65 FR 33805 (May 25, 2000) and accompanying “Decision Memorandum” at Comment 15). Because the invoice date for Highveld's home market sales is subsequent to the shipment date, we have considered the shipment date that Highveld reported to be the date of sale.

Xstrata initially reported the date of sale as the contract date. On May 8, 2002, Xstrata reported that the invoice date is the more appropriate date to use as the date of sale because certain material terms of the sale are not set until the invoice date. Xstrata provided additional discussion of how the terms of sale changed after the contract date on April 17, May 8, and June 13, 2002. Because of this information, we have considered the invoice date to be the date of sale for Xstrata.

C. Affiliated-Party Transactions and Arm's-Length Test

During the POI, Highveld made home market sales to affiliated customers. We applied the arm's-length test to sales from Highveld to its affiliated customers by comparing them to sales of identical merchandise from Highveld to unaffiliated home market customers. If these affiliated party sales satisfied the arm's-length test, we used them in our analysis.

To test whether these sales were made at arm's-length prices, we compared on a model-specific basis the starting prices of sales to affiliated and unaffiliated customers net of all discounts and rebates, movement charges, direct selling expenses, commissions, and home market packing. Where, for the tested models of subject merchandise, prices to the affiliated party were on average 99.5 percent or more of the price to the unaffiliated parties, we determined that sales made to the affiliated party were at arm's-length. See 19 CFR 351.403(c) and 62 FR at 27355, Preamble - Department's Final Antidumping Regulations (May 19, 1997). Sales to affiliated customers in the home market which were not made at arm's-length prices were excluded from our analysis because we considered them to be outside the ordinary course of trade. See 19 CFR 351.102.

Xstrata had no comparison market sales to affiliated customers during the POI.

D. Cost of Production Analysis

On November 26, 2001, in the petition for the imposition of antidumping duties, the petitioners alleged that sales of ferrovanadium in the home market were made at prices below the fully absorbed COP. Accordingly, the petitioners requested that the Department conduct a country-wide sales-below-cost investigation. Based upon the comparison of adjusted home market prices to the COP for South African producers, in accordance with section 773(b)(2)(A)(i) of the Act, we found reasonable grounds to believe or suspect that home market sales of ferrovanadium produced in South Africa were made at prices below the COP and initiated a country-wide cost investigation. See Initiation Notice.

On February 11, 2002, Xstrata provided information demonstrating that the home market was not viable and submitted Q&V data for its largest third-country markets. On February 21, 2002, the petitioners submitted a country-specific cost allegation for each of the third-country markets presented by Xstrata. On March 1, 2002, the Department designated Germany as the appropriate third-country market for which to calculate NV. See Xstrata Third Country Market Selection Memorandum. On March 12 and 15, 2002, the petitioners filed amendments to the cost allegation contained in their February 21, 2002, submission to include Germany-specific price and cost information placed on the record by Xstrata. The Department, in accordance with section 773(b)(2)(A)(i) of the Act, concluded that there was a reasonable basis to suspect that Xstrata is selling ferrovanadium in Germany at prices below the COP and initiated a cost investigation on ferrovanadium sales in Germany. See Memorandum to Holly Kuga from the Team, “Analysis of Petitioner's Allegations of Sales Below Cost of Production for Xstrata South Africa (Proprietary) Limited (Xstrata),” dated March 26, 2002. As a result, the Department initiated, on March 26, 2002, a COP investigation with respect to Xstrata's sales in Germany.

The Department has conducted an investigation to determine whether the respondents made sales in the home market or third-country market at prices below their respective COPs during the POI within the meaning of section 773(b) of the Act. We conducted the COP analysis described below.

1. Calculation of Cost of Production

In accordance with section 773(b)(3) of the Act, we calculated a weighted-average COP for each respondent based on the sum of the cost of materials and fabrication for the foreign like product, plus amounts for the home market or third country market general and administrative (G&A) expenses and interest expenses. We relied on the COP data submitted by Highveld and Xstrata in their respective cost questionnaire responses, except, as noted below, in specific instances where the submitted costs were not appropriately quantified or valued.

a. Highveld. Highveld calculated the reported net interest expense ratio based on its own consolidated financial statements, rather than on the consolidated financial statements of its parent corporation. In accordance with the Department's longstanding practice, we recalculated the interest expense ratio by dividing the full-year interest expense by the cost of sales reported on the audited fiscal-year financial statements which correspond most closely to the POI at the highest level of consolidation (i.e., we used the financial statements of Highveld's corporate parent). See Notice of Final Determination of Sales at Less Than Fair Value: Structural Steel Beams from South Africa, 67 FR 35485 (May 20, 2002) and accompanying “Decision Memorandum” at Comment 7; see also the Memorandum from Timothy P. Finn to the File, “Calculation Memorandum for the Preliminary Determination of the Investigation of Highveld Steel and Vanadium Corp. Ltd. (Highveld),” dated June 25, 2002 (Highveld Calculation Memorandum).

b. Xstrata. We made no modifications to Xstrata's reported COP.

2. Test of Home Market and Third-Country Market Sales Prices

We compared the adjusted weighted-average COP to the comparison market sales of the foreign like product, as required under section 773(b) of the Act, in order to determine whether these sales had been made at prices below the COP within an extended period of time (i.e., a period of one year) in substantial quantities and whether such prices were sufficient to permit the recovery of all costs within a reasonable period of time. On a model-specific basis, we compared the COP to the comparison market prices, less any applicable discounts and rebates, movement charges, selling expenses, commissions, and packing.

3. Results of the Cost of Production Test

Pursuant to section 773(b)(2)(C) of the Act, where less than 20 percent of a respondent's sales of a given product were at prices less than the COP, we did not disregard any below-cost sales of that product because we determined that the below-cost sales were not made in “substantial quantities.” Where 20 percent or more of a respondent's sales of a given product during the POI were at prices less than the COP, we determined that such sales were made in “substantial quantities” within an extended period of time in accordance with section 773(b)(2)(B) or the Act. In such cases, because we compared prices to POI average costs, we also determined that such sales were not made at prices that would permit recovery of all costs within a reasonable period of time, in accordance with section 773(b)(2)(D) of the Act. Therefore, we disregarded the below-cost sales.

E. Calculation of Normal Value Based on Constructed Value

Section 773(b)(1)(B) of the Act provides that if, after disregarding all sales made at prices below the COP, there are no comparison market sales made in the ordinary course of trade, NV shall be based on constructed value (CV). Pursuant to section 773(b)(1)(B) of the Act, because both respondents made all of their comparison market sales at prices below the COP, we disregarded all comparison market sales and based NV on CV. We calculated CV as the sum of each respondent's cost of materials, fabrication, selling, general and administrative (SG&A) expenses, profit and U.S. packing costs. In addition, because all comparison market sales were made at prices below the COP, we calculated selling expenses and profit in accordance with section 773(e)(2)(B)(iii) of the Act. We based the selling expenses and profit for Highveld and Xstrata on figures obtained from each company's financial statements and available information regarding the selling expenses incurred by each. Section 773(a)(8) of the Act directs the Department to make certain adjustments to CV, as appropriate (i.e., circumstance of sale adjustments). Pursuant to section 773(a)(8) of the Act, we have included, where possible, the appropriate adjustments in our calculation of CV. For further information, see the Memorandum from Mark Manning and Crystal Crittenden to the File, “Calculation Memorandum for the Preliminary Determination of the Investigation of Xstrata South Africa (Proprietary) Limited (Xstrata),” (Xstrata Calculation Memorandum) and the Highveld Calculation Memorandum, both dated June 25, 2002.

F. Level of Trade/Constructed Export Price Offset

Since all of Highveld's home market sales and Xstrata's third country sales failed the cost test, we are unable to use these sales as the basis of NV and instead must calculate NV based on CV. The selling expenses and profit for CV, as noted above, were obtained from Highveld's financial records, therefore, we have no basis for attributing a level of trade (LOT) to this CV. As such, we are unable to conduct a LOT analysis. For this reason, we made no LOT adjustment or CEP offset to either Highveld's or Xstrata's NV.

G. Currency Conversions

We made currency conversions into U.S. dollars in accordance with section 773A of the Act based on exchange rates in effect on the dates of the U.S. sales, as obtained from the Federal Reserve Bank, the Department's preferred source for exchange rates.

Verification

In accordance with section 782(i) of the Act, we intend to verify all information relied upon in making our final determination.

All Others Rate

Section 735(c)(5)(A) of the Act provides for the use of an “all others” rate, which is applied to non-investigated firms. See Statement of Administrative Actions, Uruguay Round Agreements Act, Pub. L. 103-465, 103rd Cong. 2d Sess., H. Doc. 103-316, vol. I (1994) (SAA) at 873. This section states that the all others rate shall generally be an amount equal to the weighted average of the weighted-average dumping margins established for exporters and producers individually investigated, excluding any zero and de minimis margins, and any margins based entirely upon the facts available. Therefore, we have preliminarily assigned to all other exporters of ferrovanadium from South Africa a margin that is based on the weighted-average margins calculated for Highveld and Xstrata.

Suspension of Liquidation

In accordance with section 733(d) of the Act, we are directing the U.S. Customs Service to suspend liquidation of all entries of ferrovanadium from South Africa that are entered, or withdrawn from warehouse, for consumption on or after the date of publication of this notice in the Federal Register. We will instruct the Customs Service to require a cash deposit or the posting of a bond equal to the weighted-average amount by which the NV exceeds the U.S. price, as indicated in the chart below. These suspension-of-liquidation instructions will remain in effect until further notice. The weighted-average dumping margins are as follows:

Manufacturer/exporter | Margin ­(percent)
Highveld Steel and Vanadium Corporation Ltd | 45.58
Xstrata South Africa ­(Proprietary) Limited | 37.29
All Others | 41.72

Disclosure

The Department will disclose calculations performed within five days of the date of publication of this notice to the parties to the proceeding in accordance with 19 CFR 351.224(b).

International Trade Commission Notification

In accordance with section 733(f) of the Act, we have notified the ITC of our preliminary sales at LTFV determination. If our final antidumping determination is affirmative, the ITC will determine whether the imports covered by that determination are materially injuring, or threatening material injury to, the U.S. industry. The deadline for that ITC determination would be the later of 120 days after the date of this preliminary determination or 45 days after the date of our final determination.

Public Comment

Case briefs for this investigation must be submitted no later than one week after the issuance of the last verification report. Rebuttal briefs must be filed within five days after the deadline for submission of case briefs. A list of authorities used, a table of contents, and an executive summary of issues should accompany any briefs submitted to the Department. Executive summaries should be limited to five pages total, including footnotes. Further, the Department respectfully requests that all parties submitting written comments also provide the Department with an additional copy of the public version of any such comments on diskette.

Section 774 of the Act provides that the Department will hold a hearing to afford interested parties an opportunity to comment on arguments raised in case or rebuttal briefs, provided that such a hearing is requested by an interested party. If a request for a hearing is made in an investigation, the hearing normally will be held two days after the deadline for submission of the rebuttal briefs, at the U.S. Department of Commerce, 14th Street and Constitution Avenue, NW., Washington, DC 20230. Parties should confirm by telephone the time, date, and place of the hearing 48 hours before the scheduled time.

Interested parties who wish to request a hearing, or to participate if one is requested, must submit a written request within 30 days of the publication of this notice. Requests should specify the number of participants and provide a list of the issues to be discussed. Oral presentations will be limited to issues raised in the briefs.

As noted above, the Department will make its final determination within 135 days after the date of the publication of the preliminary determination.

This determination is issued and published pursuant to sections 733(f) and 777(i)(1) of the Act.

Dated: June 25, 2002.
Joseph A. Spetrini,
Acting Assistant Secretary for Import Administration.

[FR Doc. 02-16900 Filed 7-5-02; 8:45 am]

BILLING CODE 3510-DS-S